DEPARTMENT OF AGRICULTURE

Forest Service

Hood-Willamette Resource Advisory Committee

AGENCY: Forest Service, USDA.

ACTION: Notice of meeting.

SUMMARY: The Hood-Willamette Resource Advisory Committee (RAC) will meet in Salem Oregon. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://www.fs.usda.gov/main/willamette/workingtogether/advisorycommittees.

DATES: The meeting will be held on the following dates: June 6, 2018, at 10:00 a.m., and June 7, 2018, at 9:30 a.m.

All RAC meetings are subject to cancellation. For status of the meeting prior to attendance, please contact the person listed under For Further Information Contact.

ADDRESSES: The meeting will be held at the Keizer Community Center, Claggett Room, 930 Chemawa Road Northeast, Keizer, Oregon.

Written comments may be submitted as described under Supplementary Information. All comments, including names and addresses when provided, are placed in the record and are available for public inspection and copying. The public may inspect comments received at the Willamette National Forest Headquarters, 2106 Pierce Parkway, Springfield, Oregon. Please call ahead to facilitate entry into the building.

FOR FURTHER INFORMATION CONTACT: Jennifer Lippert, RAC Coordinator, by phone at 541-225-6440 or via email at jlippert@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Introduce all the RAC members to one another;

2. Review the rules and regulations surrounding the Secure Rural School Title II process and Charter; and

3. Make recommendations on 27 new or modified recreation fee proposals submitted by the Columbia River Gorge National Scenic Area (1 proposal) and the Willamette National Forest (26 proposals).

The meeting is open to the public. The agenda will include time for people to make oral statements of three minutes or less. Individuals wishing to make an oral statement should request in writing by May 30, 2017, to be scheduled on the agenda. Anyone who would like to bring related matters to the attention of the committee may file written statements with the committee staff before or after the meeting. Written comments and requests for time for oral comments must be sent to Jennifer Lippert, RAC Coordinator, 3106 Pierce Parkway, Suite D, Springfield, Oregon 97477; by email to jlippert@fs.fed.us, or via facsimile to 541-225-6224.

Meeting Accommodations: If you are a person requiring reasonable accommodation, please make requests in advance for sign language interpreting, assistive listening devices or other reasonable accommodation. For access to the facility or proceedings, please contact the person listed in the section titled For Further Information Contact. All reasonable accommodation requests are managed on a case by case basis.

Dated: May 9, 2018.
Glenn Casamassa,
Associate Deputy Chief, National Forest System.

[FR Doc. 2018-11088 Filed 5-23-18; 8:45 am]

BILLING CODE 3411-15-P